DEFENSE NUCLEAR FACILITIES SAFETY BOARD

Notice of Public Meeting and Hearing

AGENCY: Defense Nuclear Facilities Safety Board.

ACTION: Notice of public meeting and hearing.

SUMMARY: Notice is hereby given that the Defense Nuclear Facilities Safety Board (Board) will hold a Public Meeting and Hearing regarding the status of the Savannah River Site (SRS). The purpose of this Public Meeting and Hearing is to gather information and discuss Department of Energy (DOE) and National Nuclear Security Administration (NNSA) operations in a constrained environment and actions that could impact the safety posture of particular operations at SRS.

DATES: The Public Meeting and Hearing will be held on July 13, 2021, from 9:30 a.m. to 4:30 p.m. A detailed agenda is posted at www.dnfsb.gov.

ADDRESSES: This proceeding will be broadcast via a live internet video stream. Individuals interested in viewing the meeting may visit: https://www.dnfsb.gov/public-hearings-meetings/public-meeting-and-hearing-status-savannah-river-site. On the day of the meeting, a link to view the video stream will be posted on that page. The page may also be accessed by visiting dnfsb.gov and clicking: Public Meeting and Hearing on the Status of the Savannah River Site.

FOR FURTHER INFORMATION CONTACT: Tara Tadlock, Manager of Board Operations, Defense Nuclear Facilities Safety Board, 625 Indiana Avenue NW, Suite 700, Washington, DC 20004-2901, (202) 694-7176.

SUPPLEMENTARY INFORMATION: On February 28, 2020, the Board published notice of a Public Hearing regarding SRS in the Federal Register. With the onset of the COVID-19 Pandemic, the Board subsequently published a notice postponing the hearing on March 16, 2020. On July 13, 2021, the Board will hold a Public Meeting and Hearing regarding SRS. The Public Meeting and Hearing will consist of a Public Meeting to be held at 9:30 a.m. and a Public Hearing to be held at 1:15 p.m.

The goal for the Public Meeting portion is to gather information on how DOE and NNSA are approaching operations in a constrained environment and discuss ongoing challenges and plans for transitioning back to a less-constrained work environment. The areas of focus will include policy and guidance related to personnel-centric areas (e.g., training and qualifications, control room operations, and telework). The Public Meeting will consist of two sessions. In the first session, scheduled for 9:30 a.m., the Board will hear from senior officials representing Environmental Management (EM). In the second session, scheduled for 11:15 a.m., the Board will hear from senior officials representing NNSA.

The goal for the Public Hearing portion is to gather information on DOE and NNSA actions that could impact the safety posture of defense nuclear operations at SRS. The Public Hearing will be comprised of three sessions. In the first session, scheduled for 1:15 p.m., the Board will hear from senior officials representing NNSA regarding the Savanah River Tritium Enterprise (SRTE) safety basis, completed improvements, and ongoing and planned actions to address the high radiological dose consequences to the workers for several accident scenarios. In particular, the Board will focus on the ongoing actions at the SRTE that DOE cited as a basis to not accept Board Recommendation 2019-2, Safety of the Savannah River Tritium Facilities. This session will also include an overview of SRTE safety issues from the Board's Technical Director.

In session 2 of the Public Hearing, scheduled for 2:45 p.m., the Board will hear from senior officials representing NNSA and EM regarding staffing to conduct oversight missions. This will include discussions of shortages in both facility representative positions for existing facilities and engineering positions responsible for reviewing safety bases and performing safety system oversight, and the approach of delegating inherently federal functions to the contractor as a substitute for federal oversight. This will also include discussions of future technical staffing needs as new site missions ramp up (e.g., Savannah River Plutonium Processing Facility operations and Surplus Plutonium Disposition).

In session 3 of the Public Hearing, scheduled for 3:40 p.m., Board Members will hear testimony from interested members of the public. To participate during the public comment session, please send an email to hearing@dnfsb.gov with your name, email address, and affiliation, as applicable, before 11:59 p.m. on Sunday, July 11, 2021. The time allocated to each public commentator will be limited to 3 minutes or less. Additional Zoom connection instructions will be provided to registered public commenters prior to the hearing.

Interested members of the public may also submit written comments to hearing@dnfsb.gov before the hearing record closes at 5:00 p.m. on Friday, August 13, 2021. All comments received before the hearing record closes will be posted publicly on www.dnfsb.gov.

The hearing will be presented live through internet video streaming. A link to the presentation will be available on the Board's website, and a recording will be posted soon after. Additional details, including the detailed agenda for the hearing, are available at www.dnfsb.gov. A transcript of these sessions and the associated correspondence will be made available on the Board's website. The Board specifically reserves its right to further schedule and otherwise regulate the course of the hearing, to recess, reconvene, postpone, or adjourn the hearing, conduct further reviews, and otherwise exercise its authority under the Atomic Energy Act of 1954, as amended.

(Authority: 42 U.S.C. 2286b(a))

Dated: July 1, 2021.
Joyce Connery,
Chair.

[FR Doc. 2021-14460 Filed 7-6-21; 8:45 am]

BILLING CODE 3670-01-P